ENVIRONMENTAL PROTECTION AGENCY

40 CFR Part 310

[SFUND-2005-0009; FRL-7976-2]

RIN 2050-AE36

Reimbursement to Local Governments for Emergency Responses to Hazardous Substances Releases

AGENCY: Environmental Protection Agency (EPA).

ACTION: Final rule; technical correction.

SUMMARY: EPA issued a final rule in the Federal Register of February 18, 1998, to streamline procedures used to reimburse local governments for emergency response costs. Local governments may be reimbursed for certain costs they incur in taking temporary emergency measures related to releases of hazardous substances, pollutants and contaminants. This document is being issued to correct the address to mail the completed application and supporting data provided and the telephone numbers listed in Appendix II to the regulations.

DATES: This technical correction is effective on September 28, 2005.

ADDRESSES: Docket: All documents in the docket are listed in the EDOCKET index at http://www.epa.gov/edocket. Although listed in the index, some information is not publicly available, i.e., CBI or other information whose disclosure is restricted by statute.

Certain other material, such as copyrighted material, is not placed on the Internet and will be publicly available only in hard copy form. Publicly available docket materials are available either electronically in EDOCKET or in hard copy at the Superfund Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Superfund Docket is (202) 566-0276.

FOR FURTHER INFORMATION CONTACT: Lynn Beasley, Regulation and Policy Development Division, Office of Emergency Management, Office of Solid Waste and Emergency Response (5104A), Environmental Protection Agency, 1200 Pennsylvania Ave., NW., Washington, DC 20460; telephone number: (202) 564-1965; fax number: (202) 564-2625; e-mail address: beasley.lynn@epa.gov. For further information regarding specific aspects of the final rule for reimbursement to local governments, contact: Lisa Boynton, Local Governments Reimbursement Project Officer, Program Operations and Coordination Division, Office of Emergency Management, Office of Solid Waste and Emergency Response (5104A), Environmental Protection Agency, 1200 Pennsylvania Ave., NW., Washington, DC 20460; telephone number: (202) 564-2487; fax number: (202) 564-8211; e-mail address: boynton.lisa@epa.gov.

SUPPLEMENTARY INFORMATION:

I. General Information

A. Does This Action Apply to Me?

Type of entity | Examples of affected entities
Local or Tribal Governments | Governing bodies of county, parish, municipality, city, town, township, federally recognized Indian tribe or general purpose unit of local government.

This table is not intended to be exhaustive, but rather provides a guide for readers regarding entities likely to be regulated by this action. This table lists the types of entities that EPA is now aware could potentially be regulated by this action. Other types of entities not listed in the table could also be regulated. If you have questions regarding the applicability of this action to a particular entity, consult the person listed in the preceding FOR FURTHER INFORMATION CONTACT section.

B. How Can I Access Electronic Copies of This Document and Other Related Information?

The instructions provided under the Federal Register document of February 18, 1998, 63 FR 8284, are no longer current. The current information is as follows:

• Docket ID No. SFUND-2005-0009.

• Federal eRulemaking Portal: http://www.regulations.gov.

• Agency Web site: http://www.epa.gov/edocket. EDOCKET, EPA's electronic public docket and comment system.

• E-mail: superfund.docket@epa.gov.

• Fax: (202) 566-0224.

Mail: Superfund Docket, Environmental Protection Agency, Mailcode: 5202T, 1200 Pennsylvania Ave., NW., Washington, DC 20460.

In addition to using EDOCKET at http://www.epa.gov/edocket/, you may access this Federal Register document electronically through the EPA Internet under the “Federal Register” listings at http://www.epa.gov/fedrgstr/.

II. What Does This Correction Do?

On February 18, 1998, (63 FR 8284) EPA published streamlined procedures for use by local governments seeking reimbursement for emergency response costs. Local governments may be reimbursed for certain costs they incur in taking temporary emergency measures related to releases of hazardous substances pollutants and contaminants. Those procedures are found in 40 CFR part 310. Section 310.15(d) gives the address to mail the completed application and supporting data for reimbursement. Appendix II to 40 CFR part 310 provides EPA Regions and NRC Telephone Lines. The mailing address and some of the telephone numbers are now incorrect. This technical correction provides the corrected address to mail the completed application and supporting data and the EPA Regions and NRC phone numbers.

III. Why Is This Correction Issued as a Final Rule?

Section 553 of the Administrative Procedure Act (APA), 5 U.S.C. 553(b)(B), provides that, when an Agency for good cause finds that notice and public procedure are impracticable, unnecessary or contrary to the public interest, the agency may issue a final rule without providing notice and an opportunity for public comment. EPA has determined that there is good cause for making today's technical correction final without prior proposal and opportunity for comment, because EPA is merely correcting information that has become out of date since the previously published final rule. The address to submit applications found in 40 CFR 310.15, How do I apply for reimbursement? and some of the telephone numbers listed in Appendix II to part 310 have changed since the February 18, 1998, publication of the final rule. EPA finds that this constitutes good cause under 5 U.S.C. 553(b)(B).

IV. Do Any of the Statutory and Executive Order Reviews Apply to This Action?

The applicable statutory and Executive Order reviews were included in the February 18, 1998 Federal Register document. This document is a technical correction and as such no new review requirements are applicable.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 310

Environmental protection, Administrative practice and procedure, Hazardous substances, Intergovernmental relations, Local governments, Reporting and recordkeeping requirements, Superfund.

Dated: September 22, 2005.
Thomas P. Dunne,
Acting Assistant Administator, Office of Solid Waste and Emergency Response.

For the reasons set out in the preamble, it is to amend title 40, chapter I of the Code of Federal Regulations as follows:

PART 310—REIMBURSEMENT TO LOCAL GOVERNMENTS FOR EMERGENCY REPONSE TO HAZARDOUS SUBSTANCE RELEASES

1. The authority citation for part 310 continues to read as follows:

Authority: 42 U.S.C. 9611(c)(11), 9623.

Subpart B—[Amended]

2. Section 310.15 is amended by revising paragraph (d) to read as follows:

§ 310.15 How do I apply for reimbursement?

* * * * *

(d) Mail your completed application and supporting data to the LGR Project Officer, (5401A), Office of Emergency Management, Office of Solid Waste and Emergency Response, Environmental Protection Agency, 1200 Pennsylvania Ave., NW., Washington, DC 20460.

3. Appendix II to Part 310 is revised to read as follows:

Appendix—II to Part 310—EPA Regions and NRC Telephone Lines

National Response Center | (800) 424-8802
EPA Regional Phone Numbers:
Region I (ME, NH, VT, MA, RI, CT) | (617) 723-8928
Region II (NJ, NY, PR, VI) | (800) 424-8802
Region III (PA, DE, MD, DC, VA, WV) | (215) 814-3255
Region IV (NC, SC, TN, MS, AL, GA, FL, KY) | (404) 562-8700
Region V (OH, IN, IL, WI, MN, MI) | (312) 353-2318
Region VI (AR, LA, TX, OK, NM) | (866) 372-7745
Region VII (IA, MO, KS, NE) | (913) 281-0991
Region VIII (CO, UT, WY, MT, ND, SD) | (303) 293-1788
Region IX (AZ, CA, NV, AS, HI, GU, TT) | (800) 300-2193
Region X (ID, OR, WA, AK) | (206) 553-1263

[FR Doc. 05-19354 Filed 9-27-05; 8:45 am]

BILLING CODE 6560-50-P